DEPARTMENT OF COMMERCE

National Oceanic and Atmospheric Administration

RIN 0648-XG376

Notice of Availability of a Request for Information: Expressions of Interest in Conducting Collaborative Research and Development on Innovative Approaches for Exploiting Environmental Data

AGENCY: National Oceanic and Atmospheric Administration (NOAA), Commerce.

ACTION: Notice of availability; request for information.

SUMMARY: The National Oceanic and Atmospheric Administration (NOAA) is seeking expression of interest from private firms interested in entering into a Cooperative Research and Development Agreement (CRADA) with NOAA to conduct collaborative research and development (R&D) on new and innovative approaches that could lead to new and better ways of processing, exploiting and disseminating space-based Earth and space weather observations from NOAA developed and deployed satellites, with a wide range of applications, societal and economic benefits.

DATES: Comments must be received by 5 p.m. on September 24, 2018. Any questions pertaining to this Request for Information must be submitted no later than August 24, 2018.

ADDRESSES: You may submit comments on this document by the following method:

Email: Derek.parks@noaa.gov. Please include the subject heading of “Response to Collaborative R&D RFI”. Attachments to electronic comments will be accepted in Microsoft Word or Excel, or Adobe PDF formats only.

Instructions: Comments sent by any other method, to any other address or individual, or received after the end of the comment period, may not be considered by NOAA. Comments containing references, studies, research, and other empirical data that are not widely published should include copies or electronic links of the referenced materials. Comments that contain profanity, vulgarity, threats, or other inappropriate language will not be considered.

FOR FURTHER INFORMATION CONTACT: Derek Parks, Technology Transfer Program Manager, Technology Partnerships Office, U.S. Department of Commerce, National Oceanic and Atmospheric Administration, Office of Oceanic and Atmospheric Research, Room 2617, 1305 East West Hwy, Bldg. SSMC4, Silver Spring, MD 20910-3278. (Phone: 301-628-1010, email: derek.parks@noaa.gov).

SUPPLEMENTARY INFORMATION: The National Oceanic and Atmospheric Administration (NOAA) is seeking expression of interest from private firms interested in entering into a Cooperative Research and Development Agreement (CRADA) with NOAA to conduct collaborative research and development (R&D) on new and innovative approaches that could lead to new and better ways of processing, exploiting and disseminating space-based Earth and space weather observations from NOAA developed and deployed satellites, with a wide range of applications, societal and economic benefits.

The initial period of performance for this CRADA is expected to be from fiscal year 2019 through fiscal year 2021 (three years), with extensions possible if all parties agree.

This notice does not constitute an Invitation for Bid or Request for Proposal and is not to be construed as a commitment by the Government. No contracts will be awarded as a result of this notice. No reimbursement will be made for any costs associated with providing information in response to this notice or for any follow-up requests for information. NOAA may contact respondents for clarification and discussion of the submitted responses.

Synopsis

NOAA wishes to conduct collaborative R&D with one or more private firms or non-government groups on new techniques to be used, new products to be generated, enhancement of the use of satellite data in existing or new applications, and exploring potential new services that will enhance the value and enable wider use of data obtained from NOAA's space-based assets. General areas of R&D interest include, but are not limited to, exploring creating new products and eliciting new information for geophysical applications benefiting citizens, communities, local, state and federal governments and the private sector, and the use of new numerical approaches such as machine learning and artificial intelligence (AI) to maximize the information gathered from satellite observations. Some potential R&D topics on specific uses of data could include: (1) Atmospheric composition for air quality, and visibility applications, (2) atmospheric data for measuring instability and therefore severe weather and turbulence applications, (3) ocean and coastal data for ecosystems, severe weather, inundation, and water quality management, (4) land data for multiple applications such as wildfires, agriculture, droughts, flooding, urban planning, etc., (5) information delivery systems for extreme environmental conditions, (6) satellite-based data of volcanic ash for aviation safety and societal applications, (7) day-night band for new applications such as detection of fires, population migration, etc., (8) satellite data for renewable energy availability, (9) space-based data for measuring economic vulnerability (to space weather, to drought, etc.), (10) compositing multiple geophysical data sets to generate user-ready decision-making products for different economic sectors (insurance, health, transportation, tourism, education, energy, agriculture, etc.), and (11) cloud information for better characterizing the state of the atmosphere in all sky situations for use as initial conditions in numerical model forecasts.

Documentation of Interest

Responders may document their interest in entering into a CRADA with a comment to Derek Parks, Technology Transfer Program Manager. See contact information above in ADDRESSES. Responders must include, in writing, detailed information regarding their technical qualifications, the company name, address, point of contact, telephone number, and business size. Information submitted should be pertinent and specific in the technical areas described above under consideration. Any other specific and pertinent information as pertains to this particular undertaking that would enhance the information submitted will be considered by the agency.

Additional information requested:

(A) Institution's name, address, point of contact, phone number and email address.

(B) If a business, include the firm's DUNS number and Cage Code as provided under the SAM system.

(C) If a business, then state the firm's SBA certified small business concern status or other socioeconomic status. Specifically identify if your firm is HUBZone-certified, Service Disabled Veteran Owned, Women Owned, or in the SBA's 8(a) program. If your institution is not a small business, please state that it is a large business, FFRDC, university, UARC, or other.

(D) Institution's previous work experience that is similar to that described above.

(E) Any other pertinent documentation or information.

(F) Responses should be no more than 10 pages.

All information submitted in response to this notice is voluntary; the United States Government will not pay for information requested nor will it compensate any respondent for any cost incurred in developing information provided to the United States Government. No hard copy submittals will be accepted or considered. All responses to this Request for Information shall be submitted only via email to derek.parks@noaa.gov (see ADDRESSES).

Dated: August 2, 2018.
Sid Boukabara,
Senior Scientist for Strategic Initiatives, Center for Satellite Applications and Research, NOAA Satellite and Information Service.

[FR Doc. 2018-17054 Filed 8-8-18; 8:45 am]

BILLING CODE 3510-HR-P